DEPARTMENT OF JUSTICE

Notice of Lodging of Consent Decree Under the Toxic Substances Control Act

Notice is hereby given that on August 15, 2011 a proposed Consent Decree in United States and the State of Michigan v. Hansons Window and Construction, Inc., Civil Action No. 2:11-cv-13561-JCO-MKM was lodged with the United States District Court for the Eastern District of Michigan. The consent decree settles claims against a window manufacturing and replacement corporation located outside of Detroit, Michigan. The claims were brought on behalf of the Environmental Protection Agency (“U.S. EPA”) under the Toxic Substances Control Act, 15 U.S.C. 2601 et seq., and on behalf of the State of Michigan Department of Community Health (“Michigan DCH”) under the Michigan Lead Abatement Act, 1998 Mich. Pub. Acts 219 § 1 et seq., Mich. Comp. Laws Ann. § 333.5451 et seq. The Plaintiffs alleged in the complaint that the Settling Defendant failed to make one or more of the disclosures or to complete one or more of the disclosure activities required by Title IV, section 406(b) of the Toxic Substances Control Act.

Under the Consent Decree, the Settling Defendant will pay to the United States a civil penalty of $50,000, will certify that it is now in compliance and will develop a compliance program to ensure on-going compliance with residential lead based paint hazard notification requirements in the future. As part of its settlement with the State of Michigan, the Settling Defendant will also perform a Supplemental Environmental Project (“State SEP”). For the State SEP, the Settling Defendant will provide $250,000 worth of windows to the State of Michigan for installation in housing built before 1978.

The Department of Justice will receive for a period of thirty (30) days from the date of this publication comments relating to the Proposed Consent Decree. Comments should be addressed to the Assistant Attorney General, Environment and Natural Resources Division, and either e-mailed to pubcomment-ees.enrd@usdoj.gov or mailed to P.O. Box 7611, U.S. Department of Justice, Washington, DC 20044-7611, and should refer to United States and State of Michigan v. Hansons Window and Construction Inc., D.J. Ref. # 90-5-1-1-08900.

During the public comment period, the proposed Consent Decree, may also be examined on the following Department of Justice website, http://www.usdoj.gov/enrd/Consent_Decrees.html. A copy of the proposed consent decree may also be obtained by mail from the Consent Decree Library, P.O. Box 7611, U.S. Department of Justice, Washington, DC 20044-7611 or by faxing or e-mailing a request to Tonia Fleetwood (tonia.fleetwood@usdoj.gov), fax no. (202) 514-0097, phone confirmation number (202) 514-1547. If requesting a copy from the Consent Decree Library by mail, please enclose a check in the amount of $11.50 (25 cents per page reproduction cost) payable to the U.S. Treasury or, if requesting by email or fax, forward a check in that amount to the Consent Decree Library at the address given above.

Karen Dworkin,
Assistant Section Chief, Environmental Enforcement Section, Environment and Natural Resources Division.

[FR Doc. 2011-21528 Filed 8-22-11; 8:45 am]

BILLING CODE 4410-15-P